Title 3—

The President

Proclamation 7307 of May 11, 2000

Peace Officers Memorial Day and Police Week, 2000

By the President of the United States of America

A Proclamation

From our earliest days as a Nation, America has been blessed with citizens of courage and character who have dedicated their lives to keeping the peace in our communities. Five years after the creation of the U.S. Marshals Service in 1789, U.S. Marshal Robert Forsyth was shot and killed in the line of duty. He was the first of more than 14,000 law enforcement personnel since that time to give his life to uphold the law and protect the people he was sworn to serve.

Our Nation owes a lasting debt of gratitude to the men and women of our law enforcement community who, each day, put their lives at risk to protect us and ensure the safety of our families and homes. Because of their skill, valor, and commitment, we have begun to turn the tide on crime in America. The murder rate is at its lowest level in more than 30 years, and the overall crime rate is at its lowest point in 25 years. There are many reasons for this progress, but police chiefs, policymakers, and citizens alike agree that the dedication of our law enforcement officers and the spread of community policing have been critical factors. Today, in cities and communities across America, residents and police officers are working in partnership, forming neighborhood watch organizations, banding together against drug dealers and gangs, and building connections that are the core of community life and the foundation of a civil society.

Unfortunately, we need look no further than the tragic losses suffered by law enforcement officers to recognize the risks that these brave men and women face every day. Last year, 50 police officers were struck down in the line of duty, and another 84 lost their lives in accidents. For these heroes, the safety of their fellow citizens was their purpose and passion, and they made the ultimate sacrifice to fulfill their duty.

We can never repay these gallant men and women for their service or adequately comfort their families. We can only honor their memory—not only in words and ceremony, but in our determination to promote justice, uphold the law, and preserve the peace and safety they helped purchase with their lives.

By a joint resolution approved October 1, 1962 (76 Stat. 676), the Congress has authorized and requested the President to designate May 15 of each year as “Peace Officers Memorial Day” and the week in which it falls as “Police Week,” and, by Public Law 103-322 (36 U.S.C. 136), has directed that the flag be flown at half-staff on Peace Officers Memorial Day.

NOW, THEREFORE, I, WILLIAM J. CLINTON, President of the United States of America, do hereby proclaim May 15, 2000, as Peace Officers Memorial Day and May 14 through May 20, 2000, as Police Week. I call upon the people of the United States to observe these occasions with appropriate ceremonies, programs, and activities. I also request the Governors of the United States and of the Commonwealth of Puerto Rico, as well as the appropriate officials of all units of government, to direct that the flag of the United States be flown at half-staff on Peace Officers Memorial Day on all buildings, grounds, and naval vessels throughout the United States and all areas under its jurisdiction and control. I also invite all Americans to display the flag at half-staff from their homes on that day.

IN WITNESS WHEREOF, I have hereunto set my hand this eleventh day of May, in the year of our Lord two thousand, and of the Independence of the United States of America the two hundred and twenty-fourth.

wj

[FR Doc. 00-12355

Filed 5-12-00; 11:05 am]

Billing code 3195-01-P